ENVIRONMENTAL PROTECTION AGENCY

40 CFR Parts 51 and 52

[EPA-HQ-OAR-2003-0062; FRL-8910-6]

RIN 2060-AN86

Implementation of the New Source Review Program for Particulate Matter Less Than 2.5 Micrometers (PM2.5)

AGENCY: Environmental Protection Agency (EPA).

ACTION: Final rule; notice of grant of reconsideration and administrative stay of regulation.

SUMMARY: The Environmental Protection Agency (EPA or Agency) is providing notice that through a letter signed on April 24, 2009, EPA has granted a petition for reconsideration dated February 10, 2009, submitted by Earthjustice on behalf of the National Resources Defense Council (NRDC) and the Sierra Club, with respect to the final rule titled, “Implementation of the New Source Review (NSR) Program for Particulate Matter Less Than 2.5 Micrometers (PM2.5),” published on May 16, 2008. In addition, EPA has administratively stayed one of the provisions to which the petitioners objected—a “grandfathering” provision for PM2.5 contained in the federal prevention of significant deterioration (PSD) program. The EPA will publish notification in the Federal Register establishing a comment period and opportunity for a public hearing for the reconsideration proceeding.

The petition for reconsideration and request for administrative stay can be found in the docket for the May 16, 2008 rule. The EPA considered the petition for reconsideration and request for stay, along with information contained in the rulemaking docket, in reaching a decision on both the reconsideration and the stay.

DATES: Effective June 1, 2009, 40 CFR 52.21(i)(1)(xi) is stayed for a period of three months, until September 1, 2009.

FOR FURTHER INFORMATION CONTACT: Mr. Dan deRoeck, Air Quality Policy Division, (C504-03), U.S. Environmental Protection Agency, Research Triangle Park, NC 27711; telephone number: (919) 541-5593; or e-mail address: deroeck.dan@epa.gov.

SUPPLEMENTARY INFORMATION:

I. How Can I Get Copies of This Document and Other Related Information?

This Federal Register notice, the petition for reconsideration and the letter granting reconsideration and an administrative stay of the grandfathering provision under the federal PSD program at 40 CFR 52.21(i)(1)(xi) are available in the docket that EPA has established for the final rule titled “Implementation of the New Source Review (NSR) Program for Particulate Matter Less Than 2.5 Micrometers (PM2.5),” published on May 16, 2008 at 73 FR 28321, under Docket ID No. EPA-HQ-OAR-2003-0062. The table below identifies the petitioner, the date EPA received the petition, the document identification number for the petition, the date of EPA's response, and the document identification number for EPA's response.

Petitioner | Date of petition to EPA | Petition: Document No. in docket | Date of EPA response | EPA response: Document No. in docket
National Resources Defense Council/Sierra Club | 2/10/2009 | 0281 | 4/24/2009 | 0282

Note that all document numbers listed in the table are in the form of “EPA-HQ-OAR-2003-0062-xxxx.”

All documents in the docket are listed on the http://www.regulations.gov Web site. Although listed in the index, some information may not be publicly available, i.e., confidential business information or other information whose disclosure is restricted by statute. Certain other material, such as copyrighted material, is not placed on the Internet and will be publicly available only in hard copy form. Publicly available docket materials are available either electronically through http://www.regulations.gov or in hard copy at the EPA Docket Center, Docket ID No. EPA-HQ-OAR-2003-0062, EPA West, Room 3334, 1301 Constitution Avenue, Northwest, Washington, DC. The Public Reading Room is open from 8:30 a.m. to 4:30 p.m., Monday through Friday, excluding legal holidays. The telephone number for the Public Reading Room is (202) 566-1744, and the telephone number for the EPA Docket Center is (202) 566-1742.

In addition to being available in the docket, an electronic copy of this Federal Register notice and EPA's response letter to the petitioners are also available on the World Wide Web at http://www.epa.gov/nsr.

II. Judicial Review

Under Clean Air Act section 307(b), judicial review of the Agency's decision concerning the stay is available only by filing a petition for review in the U.S. Court of Appeals for the District of Columbia Circuit on or before July 31, 2009.

Dated: May 22, 2009.
Lisa P. Jackson,
Administrator.

For reasons discussed in the preamble, the EPA amends 40 CFR part 52 as follows:

PART 52—[AMENDED]

1. The authority citation for part 52 continues to read as follows:

Authority: 42 U.S.C. 7401 et seq.

§ 52.21 [Amended]

2. Effective June 1, 2009, in § 52.21, paragraph (i)(1)(xi) is administratively stayed until September 1, 2009.

[FR Doc. E9-12572 Filed 5-29-09; 8:45 am]

BILLING CODE 6560-50-P